RAILROAD RETIREMENT BOARD

Proposed Collection; Comment Request

SUMMARY: In accordance with the requirement of Section 3506 (c)(2)(A) of the Paperwork Reduction Act of 1995 which provides opportunity for public comment on new or revised data collections, the Railroad Retirement Board (RRB) will publish periodic summaries of proposed data collections.

Comments are Invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and Purpose of Information Collection: Supplemental Information on Accident and Insurance; OMB 3220-0036.

Under Section 12(o) of the Railroad Unemployment Insurance Act (RUIA), the Railroad Retirement Board is entitled to reimbursement of the sickness benefits paid to a railroad employee if the employee receives a sum or damages for the same infirmity for which the benefits are paid. Section 2(f) of the RUIA requires employers to reimburse the RRB for days in which salary, wages, pay for time lost or other remuneration is later determined to be payable. Reimbursements under section 2(f) generally result from the award of pay for time lost or the payment of guaranteed wages. The RUIA prescribes that the amount of benefits paid be deducted and held by the employer in a special fund for reimbursement to the RRB.

The RRB currently utilizes Form(s) SI-1c, (Supplemental Information on Accident and Insurance), SI-5 (Report of Payments to Employee Claiming Sickness Benefits Under the RUIA), ID-3s (Request for Lien Information), ID-3s-1, (Lien Information Under Section 12(o) of the RUIA), ID-3u (Request for Section 2(f) Information), ID-30k (Form Letter Asking Claimant for Additional Information on Injury or Illness), and ID-30k-1 (Request for Supplemental Information on Injury or Illness—3rd Party), to obtain the necessary information from claimants and railroad employers. The RRB proposes the addition of a column to Form ID-3s that will differentiate informal informational inquiries from formal inquiries that initiate a reimbursement action. Completion of the forms is required to obtain or retain benefits. One response is requested of each respondent.

In addition, the RRB proposes to provide employers an alternative method for providing ID-3s, (Request for Lien Information) and ID-3u, (Request for Section 2(f) Information) data to the RRB. Instead of the current manual form or facsimile process, the RRB will utilize secure and encrypted e-mail to accept responses and respond to inquiries from railroad employers. The new method of collection, which will essentially mirror the information currently provided on Forms ID-3s and ID-3u, will use digital certificates and encryption software consistent with National Institute of Standards and Technology (NIST) standards to exchange data between the RRB and railroad employers. Railroad employers will be required to purchase a digital certificate and encryption software at an estimated cost of $15 annually to take part in the proposed program.

The estimated annual respondent burden for this collection is as follows:

Estimate of Annual Respondent Burden
Form Nos. | Annual responses | Time (min) | Burden (hrs)
SI-1c | 1,000 | 5 | 93
SI-5 | 2,500 | 5 | 208
ID-3s | 11,100 | 3 | 555
ID-3s (secure e-mail) | 7,400 | 3 | 370
ID-3s.1 | 500 | 3 | 25
ID-3u | 900 | 3 | 45
ID-3u (secure e-mail) | 600 | 3 | 30
ID-30k | 2,000 | 5 | 208
ID-30k.1 | 2,500 | 5 | 167
Total | 28,500 |  | 1,691

Additional Information or Comments: To request more information or to obtain a copy of the information collection justification, forms, and/or supporting material, please call the RRB Clearance Officer at (312) 751-3363 or send an e-mail request to Charles.Mierzwa@RRB.GOV. Comments regarding the information collection should be addressed to Ronald J. Hodapp, Railroad Retirement Board, 844 North Rush Street, Chicago, Illinois 60611-2092 or send an e-mail to Ronald.Hodapp@RRB.GOV. Written comments should be received within 60 days of this notice.

Charles Mierzwa,
Clearance Officer.

[FR Doc. 04-26287 Filed 11-26-04; 8:45 am]

BILLING CODE 7905-01-P